DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: June 21, 2018, 10:00 a.m.

PLACE: Room 2C, 888 First Street NE, Washington, DC 20426.

STATUS: Open.

MATTERS TO BE CONSIDERED: Agenda, * NOTE—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1045th—Meeting
[Open Meeting; June 21, 2018; 10:00 a.m.]
Item No. | Docket No. | Company
ADMINISTRATIVE
A-1 | AD18-1-000 | Agency Administrative Matters.
A-2 | AD18-2-000 | Customer Matters, Reliability, Security and Market Operations.
ELECTRIC
E-1 | EL18-155-000 | Ameren Illinois Company.
| EL18-156-000 | Ameren Transmission Company of Illinois.
| EL18-157-000 | American Transmission Company, LLC.
| EL18-158-000 | GridLiance West Transco LLC.
| EL18-159-000 | International Transmission Company.
| EL18-160-000 | ITC Midwest, LLC.
| EL18-161-000 | Northern States Power Company, a Minnesota corporation.
| EL18-162-000 | Northern States Power Company, a Wisconsin corporation.
| EL18-163-000 | Public Service Company of Colorado.
| EL18-164-000 | Southern California Edison Company.
| EL18-165-000 | TransCanyon DCR, LLC.
| EL18-166-000 | Southwestern Public Service Company.
| EL18-167-000 | Virginia Electric and Power Company.
E-2 | EL18-45-000, EL17-33-000 | Great River Energy.
E-3 | EL18-17-000 | Midcontinent Independent System Operator, Inc.
E-4 | ER13-343-008 | CPV Maryland, LLC.
| ER13-342-012 | CPV Shore, LLC.
| ER16-700-001 | CPV Towantic, LLC.
| ER16-701-001 | CPV Valley, LLC.
E-5 | ER17-706-002 | GridLiance West Transco LLC.
E-6 | ER18-1169-000 | California Independent System Operator Corporation.
E-7 | ER16-372-003, ER16-372-004, ER16-372-005 | PJM Interconnection, L.L.C.
E-8 | ER13-75-012, ER15-416-002 | Public Service Company of Colorado.
| ER13-77-011, ER15-433-002 | Tucson Electric Power Company.
| ER13-78-012, ER15-434-002 | UNS Electric, Inc.
| ER13-79-010, ER15-413-002 | Public Service Company of New Mexico.
| ER13-82-010, ER15-411-007 | Arizona Public Service Company.
| ER13-91-009, ER15-426-002 | El Paso Electric Company.
| ER13-96-010, ER15-431-002 | Black Hills Power, Inc.
| ER13-97-010, ER15-430-002 | Black Hills Colorado Electric Utility Company, LP.
| ER13-105-006 | NV Energy, Inc.
| ER15-423-002, ER15-428-004 | Nevada Power Company.
| ER15-424-002 | Sierra Pacific Power Company.
| ER13-120-010, ER15-432-002 | Cheyenne Light, Fuel & Power Company.
E-9 | ER18-1360-000 | San Diego Gas & Electric Company.
GAS
G-1 | OMITTED
G-2 | OR18-18-000 | CCPS Transportation, LLC.
G-3 | OR18-15-000 | Andeavor Field Services, LLC v. Mid-America Pipeline Company, LLC and Enterprise Products Operating LLC.
HYDRO
H-1 | P-4253-003 | Contoocook Hydro, LLC.
H-2 | P-12514-074 | Northern Indiana Public Service Company, LLC.
H-3 | 2082-065, 14803-002 | PacifiCorp.

Issued: June 14, 2018.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-13195 Filed 6-15-18; 11:15 am]

BILLING CODE 6717-01-P